DEPARTMENT OF HEALTH AND HUMAN SERVICES

Centers for Disease Control and Prevention

CDC/HRSA Advisory Committee on HIV and STD Prevention and Treatment: Notice of Charter Renewal

This gives notice under the Federal Advisory Committee Act (Pub. L. 92-463) of October 6, 1972, that the CDC/HRSA Advisory Committee on HIV and STD Prevention and Treatment, of the Department of Health and Human Services, has been renewed for a 2-year period extending through November 25, 2006.

FOR FURTHER INFORMATION CONTACT: Ron Valdiserri, M.D., Executive Secretary, CDC/HRSA Advisory Committee on HIV and STD Prevention and Treatment, 1600 Clifton Road, NE., m/s E-07, Atlanta, Georgia 30333. Telephone 404/639-8002, or fax 404/639-3125.

The Director, Management Analysis and Services Office, has been delegated the authority to sign Federal Register notices pertaining to announcements of meetings and other committee management activities, for both CDC and the Agency for Toxic Substances and Disease Registry.

Dated: December 6, 2004.
Alvin Hall,
Director, Management Analysis and Services Office, Centers for Disease Control and Prevention.

[FR Doc. 04-27186 Filed 12-10-04; 8:45 am]

BILLING CODE 4163-18-P